DEPARTMENT OF ENERGY

Federal Energy Regulatory Commission

[Project No. 2474-051]

Erie Boulevard Hydropower, L.P.; Notice of Application for Amendment of License Modifying Flashboard System and Flow Discharge Location under Article 405, and Soliciting Comments, Motions To Intervene and Protests

Take notice that the following hydroelectric application has been filed with the Commission and is available for public inspection:

a. Application Type: Amendment of License.

b. Project No: 2474-051.

c. Date Filed: May 18, 2016.

d. Applicant: Erie Boulevard Hydropower, L.P. (licensee).

e. Name of Project: Oswego River Project.

f. Location: The Oswego River Project is located on the Oswego River near the towns of Fulton, Minetto, and Oswego, in Oswego County, New York. The project consists of 3 developments, Fulton, Minetto, and Varick in upstream to downstream order.

g. Filed Pursuant to: Federal Power Act, 16 U.S.C. 791a-825r.

h. Applicant Contact: Mr. Danial Daoust, Erie Boulevard, L.P., Brookfield Renewable Energy Group, 33 West First St., Fulton, NY 13069, 315-596-6131.

i. FERC Contact: Mr. Mark Pawlowski 202-502-6052, mark.pawlowski@ferc.gov.

j. Deadline for filing comments, motions to intervene, and protests: June 23, 2016.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-2474-051) on any comments, motions, or recommendations filed.

k. Description of Request: The licensee requests approval to reverse the direction of the stepped flashboard system at the Oswego River Project's Varick development and install a trip flashboard section on the eastern side of the dam adjacent to Leto Island. The licensee maintains the stepped flashboard system so that the tallest 36-inch flashboard section is located on the eastern side of the dam adjacent to Leto Island while stepping down in height to the shortest 10-inch flashboard section located on the western side of the dam adjacent to the existing sluice gate and state head gates. The licensee proposes to reverse the direction of the stepped flashboard by moving the tallest flashboard section to the western side of the dam adjacent to the existing sluice gate and state head gates and stepping down in height in an easterly direction toward Leto Island.

Under article 405, the licensee is required to maintain seasonal bypassed reach minimum flows ranging from 200 cubic feet per second (cfs) between June 1 and September 15 to 800 cfs during the springtime walleye spawning season. The remainder of the year the licensee is required to maintain a 400 cfs minimum flow. The proposed trip flashboard would be installed on the dam adjacent to Leto Island and be designed to discharge a minimum flow of 200 cfs at the lowest allowable impoundment elevation at the Varick development. The first 200 cfs of the minimum flow requirements of article 405 would continue to be discharged through the existing sluice gate.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”; “PROTESTS”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 8, 2016.
Kimberly D. Bose,
Secretary.

[FR Doc. 2016-13976 Filed 6-13-16; 8:45 am]

BILLING CODE 6717-01-P